DEPARTMENT OF THE INTERIOR

Bureau of Indian Affairs

[256A2100DD/AAKE200000/A0A501010.000000]

Land Acquisitions; Cherokee Nation, Bartlesville Site, City of Bartlesville, Unincorporated Washington County, Oklahoma

AGENCY: Bureau of Indian Affairs, Interior.

ACTION: Notice.

SUMMARY: The Assistant Secretary—Indian Affairs made a final agency determination to acquire approximately 14.993 acres of land, known as the Bartlesville Site, near the City of Bartlesville, Unincorporated Washington County, Oklahoma, in trust for gaming and other purposes.

DATES: This final determination was made on January 15, 2025.

FOR FURTHER INFORMATION CONTACT: Mr. Philip Bristol, Acting Director, Office of Indian Gaming, Office of the Assistant Secretary—Indian Affairs, Washington, DC 20240, IndianGaming@bia.gov; (202) 219-4066.

SUPPLEMENTARY INFORMATION: On the date listed in the DATES section of this notice, the Assistant Secretary—Indian Affairs (AS-IA) made a final agency determination to acquire the Bartlesville Site, consisting of 14.993 acres, more or less, in trust for the Cherokee Nation under the authority of the Indian Reorganization Act of 1934, 25 U.S.C. 5108. The AS-IA determined that the Tribe's request also meets the requirements of the Indian Gaming Regulatory Act's “on-Reservation” exception, 25 U.S.C. 2719(a)(1), to the general prohibition contained in 25 U.S.C. 2719(a) for gaming on lands acquired in trust after October 17, 1988.

The AS-IA, on behalf of the Secretary of the Interior, will immediately acquire title to the Bartlesville Site in the name of the United States of America in trust for Cherokee Nation upon fulfillment of all Departmental requirements. The 14.993 acres, more or less, are described as follows:

Legal Description of Property

East 990.0 of the West 1103.5 feet of the N/2 of the NW/4 of the SW/4 of Section 28, Township 26 North, Range 13 East of the Indian Base & Meridian, Washington County, State of Oklahoma.

Containing 14.993 acres, more or less.

Authority: This notice is published in the exercise of authority delegated by the Secretary of the Interior to the AS-IA by 209 Departmental Manual 8.1 and is published to comply with the requirements of 25 CFR 151.12 (c)(2)(ii) that notice of the decision to acquire land in trust be promptly provided in the Federal Register.

Scott J. Davis,
Senior Advisor to the Secretary of the Interior, Exercising the delegated authority of the Assistant Secretary—Indian Affairs.

[FR Doc. 2025-07851 Filed 5-5-25; 8:45 am]

BILLING CODE 4337-15-P